DEPARTMENT OF ENERGY

Advanced Scientific Computing Advisory Committee

AGENCY: Office of Science, Department of Energy.

ACTION: Notice of Open meeting.

SUMMARY: This notice announces a meeting of the Advanced Scientific Computing Advisory Committee (ASCAC). The Federal Advisory Committee Act (Pub. L. 92-463, 86 Stat. 770) requires that public notice of these meetings be announced in the Federal Register.

DATES: Monday, July 27, 2015, 8:00 a.m.-5:30 p.m.

ADDRESSES: Marriott Gateway Crystal City, 1700 Jefferson Davis Highway, Arlington, Virginia 22202, (703) 920-3230.

FOR FURTHER INFORMATION CONTACT: Sally McPherson, Office of Advanced Scientific Computing Research; SC-21/Germantown Building, U.S. Department of Energy, 1000 Independence Avenue SW., Washington, DC 20585-1290; Telephone (301) 903-9958.

SUPPLEMENTARY INFORMATION: Purpose of the Committee: This committee is to provide advice and guidance on a continuing basis to the Office of Scientific Computing Research and to the Department of Energy on scientific priorities within the field of advanced scientific computing research.

Purpose of the Meeting: This meeting is the semi-annual meeting of the Committee.

Tentative Agenda Topics

• View from Washington (an update on the budget and planned activities of the Office of Science and the Department)

• View from Germantown (an update on the budget, accomplishments and planned activities of the Advanced Scientific Computing Research program)

• Update from the Subcommittee reviewing the Department's Exascale Plan

• Update from Subcommittee on the Office of Scientific and Technical Information (OSTI)

• Update from the Committee of Visitors (COV) for Networking Research

• Briefing on the CORAL project at the Argonne Leadership Computing Facility

• Briefing from the ASCR project “Center for Applied Mathematics for Energy Research Applications (CAMERA)”

• Public Comment (10-minute rule)

The meeting will conclude at 5:30 p.m. Agenda updates and presentations will be posted on the ASCAC Web site prior to the meeting: http://science.energy.gov/ascr/ascac/.

Public Participation: The meeting is open to the public. To access the Ready Talk call:

1. Dial Toll-Free Number: (866) 740-1260 (U.S. & Canada)

2. International participants dial: http://www.readytalk.com/intl

3. Enter access code 9039560, followed by “#”

Individuals and representatives of organizations who would like to offer comments and suggestions may do so during the meeting. Approximately 30 minutes will be reserved for public comments. Time allotted per speaker will depend on the number who wish to speak but will not exceed 5 minutes. The Designated Federal Officer is empowered to conduct the meeting in a fashion that will facilitate the orderly conduct of business. Those wishing to speak should register to do so beginning at 11:30 a.m. on July 13.

Those not able to attend the meeting or who have insufficient time to address the committee are invited to send a written statement to Christine Chalk, U.S. Department of Energy, 1000 Independence Avenue SW., Washington DC 20585, or email to: Christine.Chalk@science.doe.gov.

Minutes: The minutes of this meeting will be available on the U.S. Department of Energy's Office of Advanced Scientific Computing Web site at http://science.energy.gov/ascr/ascac/.

Issued at Washington, DC, on June 11, 2015.
LaTanya R. Butler,
Deputy Committee Management Officer.

[FR Doc. 2015-14900 Filed 6-16-15; 08:45 am]

BILLING CODE 6450-01-P